DEPARTMENT OF ENERGY

Federal Energy Regulatory Commission

[Project No. 3267-015]

North Country Community College Foundation, Inc., Chasm Hydro, Inc.; Notice of Application for Transfer of License, and Soliciting Comments and Motions To Intervene

On January 31, 2013, North Country Community College Foundation, Inc. (transferor) and Chasm Hydro, Inc. (transferee) filed an application for the transfer of license for the Ballard Mill Project (FERC No. 3267), located on the Salmon River in Franklin County, New York.

Applicants seek Commission approval to transfer the license for the Ballard Mill Project from the transferor to the transferee.

Applicants' Contact: Transferor: Ms. Diana Fortune, Director of Development and Ms. Susanna R. Cantwell, President, North Country Community College Foundation, Inc., 23 Santanoni Avenue, P.O. Box 89, Saranac Lake, NY 12983, telephone (518) 354-5261. Transferee: Mr. John Dowd, President, Chasm Hydro, Inc., 7063 State Route 374, Chateaugay, NY 12920, telephone (518) 497-3111.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-3267) in the docket number field to access the document. For assistance, call toll-free 1-866-208-3372.

Dated: February 8, 2013.
Kimberly D. Bose,
Secretary.

[FR Doc. 2013-03499 Filed 2-14-13; 8:45 am]

BILLING CODE 6717-01-P